DEPARTMENT OF TRANSPORTATION

Federal Aviation Administration

14 CFR Part 39

[Docket No. FAA-2010-0892; Directorate Identifier 2010-NE-32-AD]

RIN 2120-AA64

Airworthiness Directives; Thielert Aircraft Engines GmbH Models TAE 125-02-99 and TAE 125-02-114 Reciprocating Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

Service experience has shown that fracture of the timing chain has occurred due to chain wear. This condition, if not corrected, could lead to in-flight cases of engine shutdown.

We are proposing this AD to prevent engine in-flight shutdown leading to loss of control of the airplane by requiring life limits for the timing chain.

DATES: We must receive comments on this proposed AD by December 13, 2010.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Thielert Aircraft Engines GmbH, Platanenstrasse 14 D-09350, Lichtenstein, Germany, telephone: +49-37204-696-0; fax: +49-37204-696-55; e-mail: info@centurion-engines.com for the service information identified in this proposed AD.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone (800) 647-5527) is the same as the Mail address provided in the ADDRESSES section. Comments will be available in the AD docket shortly after receipt.

FOR FURTHER INFORMATION CONTACT: Alan Strom, Aerospace Engineer, Engine Certification Office, FAA, Engine & Propeller Directorate, 12 New England Executive Park, Burlington, MA 01803; e-mail: alan.strom@faa.gov; telephone (781) 238-7143; fax (781) 238-7199.

SUPPLEMENTARY INFORMATION:

Comments Invited

We invite you to send any written relevant data, views, or arguments about this proposed AD. Send your comments to an address listed under the ADDRESSES section. Include “Docket No. FAA-2010-0892; Directorate Identifier 2010-NE-32-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA AD 2010-0136, dated June 30, 2010 (referred to after this as “the MCAI”), to correct an unsafe condition for the specified products. The MCAI states:

Service experience has shown that fracture of the timing chain has occurred due to chain wear. This condition, if not corrected, could lead to in-flight cases of engine shutdown.

Engine experience shows that the design of the timing chain does not have the expected durability as evidenced by accelerated, premature wear, causing chain fracture resulting in engine in-flight shutdown. The chain link pins and link plates become weakened and break from wear caused by hard sooty particles that are by-products of combustion. The link wear also lengthens the chain causing camshaft sprocket wear. Replacing the timing chain at the compliance times in this AD will help to avoid chain failure, which would cause engine shutdown.

You may obtain further information by examining the MCAI in the AD docket.

Relevant Service Information

Thielert Aircraft Engines GmbH has issued Service Bulletin No. TM TAE 125-1010 P1, Revision 2, dated May 26, 2010. The actions described in this service information are intended to correct the unsafe condition identified in the MCAI.

FAA's Determination and Requirements of This Proposed AD

This product has been approved by the aviation authority of Germany and is approved for operation in the United States. Pursuant to our bilateral agreement with Germany, they have notified us of the unsafe condition described in the MCAI and service information referenced above. We are proposing this AD because we evaluated all information provided by EASA and determined the unsafe condition exists and is likely to exist or develop on other products of the same type design. This proposed AD would require initial replacement of the timing chain on the TAE 125-02-99 and TAE 125-02-114 reciprocating engines listed by serial number in Table 1 of the proposed AD, and thereafter, repetitive replacements of the timing chain on all TAE 125-02-99 and TAE 125-02-114 reciprocating engines.

Costs of Compliance

Based on the service information, we estimate that this proposed AD would affect about 112 engines installed on airplanes of U.S. registry. We also estimate that it would take about 8 work-hours per product to comply with this proposed AD. The average labor rate is $85 per work-hour. Required parts would cost about $162 per engine. Based on these figures, we estimate the cost of the proposed AD on U.S. operators to be $94,304.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Thielert Aircraft Engines GmbH: Docket No. FAA-2010-0892; Directorate Identifier 2010-NE-32-AD.

Comments Due Date

(a) We must receive comments by December 13, 2010.

Affected Airworthiness Directives (ADs)

(b) None.

Applicability

(c) This AD applies to Thielert Aircraft Engines GmbH models TAE 125-02-99 and TAE 125-02-114 reciprocating engines installed in, but not limited to, Cessna 172 and (Reims-built) F172 series (European Aviation Safety Agency (EASA) Supplemental Type Certificate (STC) No. EASA.A.S.01527); Piper PA-28 series (EASA STC No. EASA.A.S. 01632); APEX (Robin) DR 400 series (EASA STC No. A.S.01380); and Diamond Aircraft Industries Models DA 40, DA 42, and DA 42M NG airplanes.

Reason

(d) This AD results from mandatory continuing airworthiness information (MCAI) issued by an aviation authority of another country to identify and correct an unsafe condition on an aviation product. The MCAI describes the unsafe condition as:

Service experience has shown that fracture of the timing chain has occurred due to chain wear. This condition, if not corrected, could lead to in-flight cases of engine shutdown.

We are issuing this AD to prevent engine in-flight shutdown leading to loss of control of the airplane by requiring life limits for the timing chain.

Actions and Compliance

(e) Unless already done, do the following actions.

Initial Replacement of Timing Chain

(1) For engines with serial numbers (S/Ns) listed in Table 1 of this AD, replace the timing chain within 600 flight hours-since-new, or no later than 55 flight hours after the effective date of this AD, whichever occurs later.

Table 1—S/Ns of Engines Affected by the Compliance Time in Paragraph (e)(1) of This AD
02-02-01510 to 02-02-01514 inclusive.
02-02-01518 to 02-02-01520 inclusive.
02-02-01529.
02-02-01717.
02-02-01718.
02-02-01720.
02-02-01721.
02-02-01727.
02-02-01728.
02-02-01730 to 02-02-01733 inclusive.
02-02-01739 to 02-02-01752 inclusive.

(2) For engines with S/Ns not listed in Table 1 of this AD, replace the timing chain within 910 flight hours-since-new, or no later than 55 flight hours after the effective date of this AD, whichever occurs later.

Repetitive Replacements of Timing Chains for All TAE 125-02-99 and TAE 125-02-114 Engines

(3) Thereafter, for all TAE 125-02-99 and TAE 125-02-114 engines, repetitively replace the timing chain within every additional 910 flight hours.

(4) Guidance on replacing the timing chain can be found in Thielert Aircraft Engines GmbH Service Bulletin No. TM TAE 125-1010 P1, Revision 2, dated May 26, 2010.

FAA AD Differences

(f) This AD differs from the MCAI and/or service information, which require initial replacement of the timing chain for the engines listed in paragraph (e)(1) above within either the next 110 flight hours or at the next maintenance, whichever occurs first, for those engines having accumulated between 500 and 600 flight hours time-since-new. The reason for the difference is to ensure that the compliance requirements for all engines in paragraph (e)(1) above are consistent.

Alternative Methods of Compliance (AMOCs)

(g) The Manager, Engine Certification Office, FAA, has the authority to approve AMOCs for this AD, if requested using the procedures found in 14 CFR 39.19.

Related Information

(h) Refer to MCAI European Aviation Safety Agency AD 2010-0136, dated June 30, 2010, and Thielert Aircraft Engines GmbH Service Bulletin No. TM TAE 125-1010 P1, Revision 2, dated May 26, 2010, for related information. Contact Thielert Aircraft Engines GmbH, Platanenstrasse 14 D-09350, Lichtenstein, Germany, telephone: +49-37204-696-0; fax: +49-37204-696-55; e-mail: info@centurion-engines.com, for a copy of this service information.

(i) Contact Alan Strom, Aerospace Engineer, Engine Certification Office, FAA, Engine & Propeller Directorate, 12 New England Executive Park, Burlington, MA 01803; e-mail: alan.strom@faa.gov; telephone (781) 238-7143; fax (781) 238-7199, for more information about this AD.

Issued in Burlington, Massachusetts, on October 21, 2010.
Peter A. White,
Assistant Manager, Engine and Propeller Directorate, Aircraft Certification Service.

[FR Doc. 2010-27228 Filed 10-27-10; 8:45 am]

BILLING CODE 4910-13-P